ENVIRONMENTAL PROTECTION AGENCY

40 CFR Chapter I

[EPA-HQ-OA-2018-0107; FRL-9980-45-OA]

RIN 2010-AA12

Increasing Consistency and Transparency in Considering Costs and Benefits in the Rulemaking Process

AGENCY: Environmental Protection Agency (EPA).

ACTION: Advance notice of proposed rulemaking; extension of comment period.

SUMMARY: On June 13, 2018, the Environmental Protection Agency (EPA) proposed an advance notice of proposed rulemaking titled, “Increasing Consistency and Transparency in Considering Costs and Benefits in Rulemaking Process.” The EPA is extending the comment period on the proposed rule, which was scheduled to close on July 13, 2018, until August 13, 2018. The EPA is making this change in response to public requests for an extension of the comment period.

DATES: The public comment period for the proposed rule published in the Federal Register on June 13, 2018 (83 FR 27524), is extended. Written comments must be received on or before August 13, 2018.

ADDRESSES: Submit your comments, identified by Docket ID No. EPA-HQ-OA-2018-0107 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system).

For additional submission methods, the full EPA public comment policy, information about CBI or multimedia submissions, and general guidance on making effective comments, please visit https://www2.epa.gov/dockets/commenting-epa-dockets.

FOR FURTHER INFORMATION CONTACT: For further information on this document, please contact Elizabeth Kopits, National Center for Environmental Economics, Office of Policy, 1200 Pennsylvania Avenue NW, Mail Code 1809T, Washington, DC 20460, Phone: (202) 566-2299; kopits.elizabeth@epa.gov.

SUPPLEMENTARY INFORMATION: This document extends the public comment period for the proposed rule to ensure that the public has sufficient time to review and comment on the proposal. EPA is proposing this rule under authority of 5 U.S.C. 301, in addition to the authorities listed in the April 30th document.

Dated: June 27, 2018.
Brittany Bolen,
Acting Associate Administrator, Office of Policy.

[FR Doc. 2018-14330 Filed 7-2-18; 8:45 am]

BILLING CODE 6560-50-P